DEPARTMENT OF COMMERCE

National Oceanic and Atmospheric Administration

RIN 0648-XA936

Marine Mammals; File No. 17011

AGENCY: National Marine Fisheries Service (NMFS), National Oceanic and Atmospheric Administration (NOAA), Commerce.

ACTION: Notice; issuance of permit.

SUMMARY: Notice is hereby given that a permit has been issued to NHK Enterprises, Inc., Nature & Science Programs, 5-20 Kamiyama-cho, Ogawa Bldg., Shibuya-ku, Tokyo, Japan to conduct commercial or educational photography.

ADDRESSES: The permit and related documents are available for review upon written request or by appointment in the following offices:

Permits and Conservation Division, Office of Protected Resources, NMFS, 1315 East-West Highway, Room 13705, Silver Spring, MD 20910; phone (301) 427-8401; fax (301) 713-0376; and

Alaska Region, NMFS, P.O. Box 21668, Juneau, AK 99802-1668; phone (907) 586-7221; fax (907) 586-7249.

FOR FURTHER INFORMATION CONTACT: Joselyd Garcia-Reyes or Laura Morse, (301) 427-8401.

SUPPLEMENTARY INFORMATION: On January 18, 2012, notice was published in the Federal Register (77 FR 2513) that a request for a permit to conduct commercial/educational photography of Eastern North Pacific gray whales (Eschrichtius robustus) and killer whales (Orcinus orca) had been submitted by the above-named applicant. The requested permit has been issued under the authority of the Marine Mammal Protection Act of 1972, as amended (16 U.S.C. 1361 et seq.) and the regulations governing the taking and importing of marine mammals (50 CFR part 216).

NHK Enterprises, Inc. will film gray whale and killer whale interactions in the Aleutian Islands from Unimak Pass to Sand Point, Alaska using a 100ft boat, a 21ft aluminum skiff, and a helicopter. Up to 100 gray whales and 300 killer whales may be approached and filmed during the life of the permit. Species that may be incidentally harassed during filming activities include: 60 White-sided dolphins (Lagenorhyncus obliquidens), 20 harbor porpoise (Phocoena phocoena), 60 harbor seals (Phoca vitulina), 40 northern fur seals (Callorhinus ursinus), and 40 Dall's porpoises (Phocoenoides dalli). Footage would be used to create a film that would document the hunting behavior of transient killer whales and to document the food chain that develops from this predation. The permit will expire on March 31, 2017.

In compliance with the National Environmental Policy Act of 1969 (42 U.S.C. 4321 et seq.), a final determination has been made that the activity proposed is categorically excluded from the requirement to prepare an environmental assessment or environmental impact statement.

Dated: April 4, 2012.
Tammy C. Adams,
Acting Chief, Permits and Conservation Division, Office of Protected Resources, National Marine Fisheries Service.

[FR Doc. 2012-8610 Filed 4-10-12; 8:45 am]

BILLING CODE 3510-22-P